DEPARTMENT OF DEFENSE

Department of the Navy

Notice of Availability of Government-Owned Inventions; Available for Licensing

AGENCY: Department of the Navy, DOD.

ACTION: Notice.

SUMMARY: The inventions listed below are assigned to the United States Government as represented by the Secretary of the Navy and are available for licensing by the Department of the Navy. U.S. Patent No. 4,619,986: Epoxy Phthalonitrile Polymers, Navy Case No. 67,775.//U.S. Patent No. 4,642,271: BN Coating of Ceramic Fibers for Ceramic Fiber Composites, Navy Case No. 68,008.//U.S. Patent No. 4,648,083: All-optical Towed and Conformal Arrays, Navy Case No. 68,099.//U.S. Patent No. 4,689,628: Adaptive Sidelobe Canceller System, Navy Case No. 57,807.//U.S. Patent No. 4,739,661: Fiber-optic Accelerometer Having Cantilevered Acceleration-sensitive Mass, Navy Case No. 69,713.//U.S. Patent No. 4,816,881: A TiW Diffusion Barrier for AuZn Ohmic Contacts to P-type InP, Navy Case No. 71,295.//U.S. Patent No. 4,823,177: Method and Device for Magnetizing Thin Films by the Use of Injected Spin Polarized Current, Navy Case No. 70,708.//U.S. Patent No. 4,843,235: Devices for Protection of Sensors from Damaging and Interrogating Radiation, Navy Case No. 55,577.//U.S. Patent No. 4,849,925: Maximum Entropy Deconvolver Circuit Based on Neural Net Principles, Navy Case No. 70,552.//U.S. Patent No. 4,856,095: OPFET Demodulator-downconverter for Detecting Microwave Modulated Optical Signals, Navy Case No. 69,500.//U.S. Patent No. 4,881,813: Passive Stabilization of a Fiber Optic Nonlinear Interferometric Sensor, Navy Case No. 70,232.//U.S. Patent No. 4,897,543: Apparatus and Method for Minimizing Polarization-induced Signal Fading in an Interferometric Fiber-optic Sensor Using Input-polarization Control, Navy Case No. 70,942.//U.S. Patent No. 4,900,681: Hydrazine Detection, Navy Case No. 70,566.//U.S. Patent No. 4,911,929: Blood Substitute Comprising Liposome-encapsulated Hemoglobin, Navy Case No. 71,217.//U.S. Patent No. 4,932,783: Apparatus and Method for Minimizing Polarization-induced Signal Fading in an Interferometric Fiber-optic Sensor Using Input-polarization Modulation, Navy Case No. 71,465.//U.S. Patent No. 4,965,803: Room-temperature, Laser Diode-pumped, Q-switched, 2 Micron, Thulium-doped, Solid State Laser, Navy Case No. 72,611.//U.S. Patent No. 4,969,150: Tunable, Continuous Wave, Thulium-doped, Solid State Laser, Navy Case No. 72,123.//U.S. Patent No. 5,003,039: Amino Phenyl Containing Curing Agent for High Performance Phthalonitrile Resin, Navy Case No. 70,430.//U.S. Patent No. 5,049,890: Sampled Data Processing, Navy Case No. 57,994.//U.S. Patent No. 5,073,409: Environmentally Stable Metal Powders, Navy Case No. 71,608.//U.S. Patent No. 5,096,551: Metallized Tubule-based Artificial Dielectric, Navy Case No. 72,680.//U.S. Patent No. 5,104,222: System and Method for Minimizing Input Polarization-induced Phase Noise in an Interferometric Fiber-optic Sensor Depolarized Input Light, Navy Case No. 72,995.//U.S. Patent No. 5,106,829: Method of Making Substantially Single Phase Superconducting Oxide Ceramics Having a Tc Above 85 Degrees, Navy Case No. 73,114.//U.S. Patent No. 5,119,383: Antiresonant Nonlinear Mirror for Passive Laser Modelocking, Navy Case No. 72,558.//U.S. Patent No. 5,126,674: Planar Imaging by Nuclear Magnetic Resonance, Navy Case No. 71,641.//U.S. Patent No. 5,132,396: Phthalonitrile Monomers Containing Imide and/or Phenoxy Linkages, and Polymers Thereof, Navy Case No. 71,224.//U.S. Patent No. 5,140,154: Inline Fiber Optic Sensor Arrays with Delay Elements Coupled Between Sensor Units, Navy Case No. 71,595.//U.S. Patent No. 5,141,312: Fiber Optic Photoluminescence Sensor, Navy Case No. 71,714.//U.S. Patent No. 5,143,545: Antifouling Marine Coatings, Navy Case No. 72,531.//U.S. Patent No. 5,150,192: Field Emitter Array, Navy Case No. 73,671.//U.S. Patent No. 5,151,407: Method of Producing Bi-Sr-Ca-Cu-O Superconducting Materials in Cast Form, Navy Case No. 71,262.//U.S. Patent No. 5,155,741: High Data Rate Long Pulse Compression Waveform Communication System for M-ary Encoding Voice Messages for Air Traffic Control Systems, Navy Case No. 71,275.//U.S. Patent No. 5,159,054: Synthesis of Phthalonitrile Resins Containing Ether and Imide Linkages, Navy Case No. 73,345.//U.S. Patent No. 5,162,805: Frequency Diversity Sidelobe Canceller, Navy Case No. 57,228.//U.S. Patent No. 5,177,644: Tilt Mechanism, Navy Case No. 72,904.//U.S. Patent No. 5,182,496: Method and Apparatus for Forming an Agile Plasma Mirror Effective as a Microwave Reflector, Navy Case No. 73,830.//U.S. Patent No. 5,193,383: Mechanical and Surface Force Nanoprobe, Navy Case No. 71,785.//U.S. Patent No. 5,196,302: Enzymatic Assays Using Superabsorbent Materials, Navy Case No. 70,724.//U.S. Patent No. 5,196,358: Method of Manufacturing InP Junction FETS and Junction HEMTS Using Dual Implantation and Double Nitride Layers, Navy Case No. 71,579.//U.S. Patent No. 5,198,667: Method and Apparatus for Performing Scanning Tunneling Optical Absorption Spectroscopy, Navy Case No. 73,347.//U.S. Patent No. 5,200,966: Resonantly Pumped, Erbium-doped, GSGG, 2.8 Micron, Solid State Laser with Energy Recycling and High Slope Efficiency, Navy Case No. 74,158.//U.S. Patent No. 5,202,414: Pyrolzed Amine Cured Polymer of Dithioether-linked Phthalonitrile Monomer, Navy Case No. 73,184.//U.S. Patent No. 5,202,747: Fiber Optic Gyroscope with Wide Dynamic Range Analog Phase Tracker, Navy Case No. 72,824.//U.S. Patent No. 5,206,867: Suppression of Relaxation Oscillations in Flashpumped, Two-micron Tunable Solid State Lasers, Navy Case No. 73,374.//U.S. Patent No. 5,206,924: Fiber Optic Michelson Sensor and Arrays with Passive Elimination of Polarization Fading and Source Feedback Isolation, Navy Case No. 74,894.//U.S. Patent No. 5,211,731: Plasma Chemical Vapor Deposition of Halide Glasses, Navy Case No. 70,998.//U.S. Patent No. 5,214,347: Layered Thin-edged Field-emitter Device, Navy Case No. 70,526.//U.S. Patent No. 5,225,374: Method of Fabricating a Receptor-based Sensor, Navy Case No. 74,119.//U.S. Patent No. 5,227,725: Nuclear Magnetic Resonance Imaging with Short Gradient Pulses, Navy Case No. 72,761.//U.S. Patent No. 5,227,857: System for Cancelling Phase Noise in an Interferometric Fiber Optic Sensor Arrangement, Navy Case No. 73,165.//U.S. Patent No. 5,231,606: Field Emitter Array Memory Device, Navy Case No. 70,560.//U.S. Patent No. 5,237,045: Curing Phthalonitrile Resins with Acid and Amine, Navy Case No. 73,797.//U.S. Patent No. 5,238,610: Method of Detecting Oxidizing Agents in Aqueous Media Through the Use of Chemiluminescent Microemulsions, Navy Case No. 74,327.//U.S. Patent No. 5,242,755: High Temperature Adhesive, Navy Case No. 71,223.//U.S. Patent No. 5,243,403: Three-axis Fiber Optic Vector Magnetometer, Navy Case No. 68,711.//U.S. Patent No. 5,246,879: Method of Forming Nanometer-scale Trenches and Holes, Navy Case No. 73,344.//U.S. Patent No. 5,247,060: Curing Phthalonitriles with Acid, Navy Case No. 73,174.//U.S. Patent No. 5,247,887: Dynamic Method for Enhancing Effects of Underwater Explosions, Navy Case No. 56,996.//U.S. Patent No. 5,247,894: Pro-submarine Mobile Decoy, Navy Case No. 29,995.//U.S. Patent No. 5,252,695: Fast Switching Ferroelectric Liquid Crystalline Polymers, Navy Case No. 74,792.//U.S. Patent No. 5,253,216: Sonar Countermeasure, Navy Case No. 31,588.//U.S. Patent No. 5,262,514: Polymer from Diimido-di-phthalonitrile, Navy Case No. 70,672.//U.S. Patent No. 5,266,155: Method for Making a Symmetrical Layered Thin Film Edge Field-emitter-array, Navy Case No. 75,109.//U.S. Patent No. 5,268,875: Acoustic Decoy, Navy Case No. 41,932.//U.S. Patent No. 5,268,920: System for End-pumping a Solid State Laser Using a Large Aperture Laser Diode Bar, Navy Case No. 73,373.//U.S. Patent No. 5,270,252: Method of Forming Platinum and Platinum Silicide Schottky Contacts on Beta-silicon Carbide, Navy Case No. 74,790.//U.S. Patent No. 5,270,853: Method and Apparatus for Imaging an Object in or Through a Scattering Medium by Using Multiple-wave Mixing, Navy Case No. 74,287.//U.S. Patent No. 5,272,131: Method for Forming Aligned Superconducting Bi-Sr-Ca-Cu-O, Navy Case No. 71,999.//U.S. Patent No. 5,272,237: Carborane-(siloxane or Silane)-unsaturated Hydrocarbon Based Polymers, Navy Case No. 74,945.//U.S. Patent No. 5,272,708: Two-micron Modelocked Laser System, Navy Case No. 73,829.//U.S. Patent No. 5,282,936: Decomposition of Halogenated and Polyhalogenated Organic Materials by Electrified Microheterogeneous Catalysis, Navy Case No. 73,614.//U.S. Patent No. 5,287,378: Holmium Quasi-two Level Laser, Navy Case No. 74,205.//U.S. Patent No. 5,289,482: Intracavity-pumped 2.1.mu.m Ho.sup.3+: YAG Laser, Navy Case No. 74,075.//U.S. Patent No. 5,290,960: Diacetylenic Phospholipids Containing Heteroatom Near Diacetylenic Functionality for Modulation of Microstructure Morphology, Navy Case No. 74,307.//U.S. Patent No. 5,291,266: Depolarized Light Source for Fiber Optic Sensors, Navy Case No. 72,926.//U.S. Patent No. 5,292,779: Carborane-(silane or Siloxane)-unsaturated Hydrocarbon Based Thermosetting Polymers, Navy Case No. 74,948.//U.S. Patent No. 5,292,854: Synthesis of Phthalonitrile Resins Containing Ether and Imide Linkages with Aromatic Diamine Curing Agent, Navy Case No. 74,797.//U.S. Patent No. 5,296,865: MTI Compatible Coherent Sidelobe Canceller, Navy Case No. 55,855.//U.S. Patent No. 5,301,166: Remote Control Command System, Navy Case No. 42,780.//U.S. Patent No. 5,303,314: Method and Apparatus for Polarization-maintaining Fiber Optical Amplification with Orthogonal Polarization Output, Navy Case No. 74,328.//U.S. Patent No. 5,304,625: Phosphazene-containing Amine as Curing Agent for Phthalonitrile-based Polymer, Navy Case No. 75,245.//U.S. Patent No. 5,305,414: Low Loss Glass and Optical Fibers Therefrom, Navy Case No. 73,520.//U.S. Patent No. 5,313,477: Rare Earth Ion Doped CW Cascade Fiber Laser, Navy Case No. 74,166.//U.S. Patent No. 5,314,866: Formation of Superconducting Bi-Sr-Ca-Cu-O Films by Organometallic Chemical Vapor Deposition, Navy Case No. 71,315.//U.S. Patent No. 5,319,440: Fiber Optic Gyroscopes with Depolarized Light, Navy Case No. 73,684.//U.S. Patent No. 5,319,652: Super Luminescent Light Source, Navy Case No. 73,675.//U.S. Patent No. 5,331,404: Low Noise Fiber Gyroscope System Which Includes Excess Noise Subtraction, Navy Case No. 73,910.//U.S. Patent No. 5,332,659: Light Emission-or Absorbance-based Binding Assays for Polynucleic Acids, Navy Case No. 75,191.//U.S. Patent No. 5,333,667: Superstrength Metal Composite Material and Process for Making the Same, Navy Case No. 72,144.//U.S. Patent No. 5,339,057: Limited Bandwidth Microwave Filter, Navy Case No. 74,067.//U.S. Patent No. 5,347,281: Frequency-coded Monopulse MTI, Navy Case No. 60,208.//U.S. Patent No. 5,348,917: Ceramics Formed by Pyrolysis of Either Linear or Thermosetting Carborane (siloxane or Silane) Acetylene Based Precursor Polymers, Navy Case No. 75,190.//U.S. Patent No. 5,350,828: Synthesis and Polymerization of Dithioether-linked Phthalonitrile Monomers, Navy Case No. 75,140.//U.S. Patent No. 5,351,057: Directive Optimization of Coherent Sidelobe Canceller Systems, Navy Case No. 57,333.//U.S. Patent No. 5,351,058: General Purpose Sidelobe Canceller System, Navy Case No. 62,545.//U.S. Patent No. 5,352,760: Polymerization of Oligomeric Multiple Aromatic Ether-containing Phthalonitriles, Navy Case No. 73,258.//U.S. Patent No. 5,353,291: Laser Synchrotron Source (LSS), Navy Case No. 75,150.//U.S. Patent No. 5,359,256: Regulatable Field Emitter Device and Method of Production Thereof, Navy Case No. 73,111.//U.S. Patent No. 5,359,411: Method and Apparatus for Evaluating the Optical Spatial Response Characteristics of Objects, Navy Case No. 74,310.//U.S. Patent No. 5,360,235: Secret Optical Marking, Navy Case No. 46,285.//U.S. Patent No. 5,361,073: Determination of Jammer Range and Azimuth by Use of a Coherent Side Lobe Canceller System, Navy Case No. 57,847.//U.S. Patent No. 5,361,130: Fiber Grating-based Sensing System with Interferometric Wavelength-shift Detection, Navy Case No. 74,106.//U.S. Patent No. 5,364,816: Fabrication Method for III-V Heterostructure Field-effect Transistors, Navy Case No. 74,039.//U.S. Patent No. 5,365,234: High-resolution Sidelobe-canceller Auxiliary Antennas, Navy Case No. 60,374.//U.S. Patent No. 5,369,007: Microassay on a Card, Navy Case No. 74,860.//U.S. Patent No. 5,371,504: Phase-coded Monopulse MTI, Navy Case No. 60,003.//U.S. Patent No. 5,379,043: Reply-frequency Interference/jamming Detector, Navy Case No. 58,476.//U.S. Patent No. 5,379,346: Cascading Synchronized Chaotic Systems, Navy Case No. 74,222.//U.S. Patent No. 5,380,298: Medical Device with Infection Preventing Feature, Navy Case No. 74,261.//U.S. Patent No. 5,382,185: Thin-film Edge Field Emitter Device and Method of Manufacture Therefor, Navy Case No. 73,869.//U.S. Patent No. 5,389,441: Phthalonitrile Prepolymer as High Temperature Sizing Material for Composite Fibers, Navy Case No. 74,791.//U.S. Patent No. 5,394,378: Hydrophone Transduction Mechanism, Navy Case No. 73,793.//U.S. Patent No. 5,396,166: Fiber Optic Interferometric Electric Field and Voltage Sensor Utilizing an Electrostrictive Transducer, Navy Case No. 73,676.//U.S. Patent No. 5,407,787: Process to Fabricate Thick Coplanar Microwave Electrode Structures, Navy Case No. 74,654.//U.S. Patent No. 5,410,404: Fiber Grating-based Detection System for Wavelength Encoded Fiber Sensors, Navy Case No. 74,927.//U.S. Patent No. 5,412,391: Adaptive Decorrelating Sidelobe Canceller, Navy Case No. 60,997.//U.S. Patent No. 5,416,859: Broadband, Low Drive Voltage, Electrooptic, Intergrated Optical Modulator, Navy Case No. 74,200.//U.S. Patent No. 5,420,067: Method of Fabricatring Sub-half-micron Trenches and Holes, Navy Case No. 75,157.//U.S. Patent No. 5,428,358: Apparatus and Method for Ionospheric Mapping, Navy Case No. 75,950.//U.S. Patent No. 5,430,813: Mode-matched, Combination Taper Fiber Optic Probe, Navy Case No. 75,121.//U.S. Patent No. 5,432,349: Fourier Transform Microscope for X-ray and/or Gamma-ray Imaging, Navy Case No. 73,566.//U.S. Patent No. 5,434,584: Submarine Communications System, Navy Case No. 55,979.//U.S. Patent No. 5,448,643: Authenticaton System, Navy Case No. 27,913.//U.S. Patent No. 5,448,680: Voice Communication Processing System, Navy Case No. 74,114.//U.S. Patent No. 5,459,099: Method of Fabricating Sub-half-micron Trenches and Holes, Navy Case No. 76,722.//U.S. Patent No. 5,464,926: Synthesis and Polymerization of Oligomeric Multiple Aromatic Ether-containing Phthalonitriles, Navy Case No. 76,155.//U.S. Patent No. 5,466,467: Liposomes Containing Polymerized Lipids for Non-covalent Immobilization of Proteins and Enzymes, Navy Case No. 75,677.//U.S. Patent No. 5,469,369: Smart Sensor System and Method Using a Surface Acoustic Wave Vapor Sensor Array and Pattern Recognition for Selective Trace Organic Vapor Detection, Navy Case No. 74,322.//U.S. Patent No. 5,471,072: Platinum and Platinum Silicide Contacts on .beta.-silicon Carbide, Navy Case No. 75,954.//U.S. Patent No. 5,477,482: Ultra High Density, Non-volatile Ferromagnetic Random Access Memory, Navy Case No. 74,853.//U.S. Patent No. 5,481,189: Electron Tunneling Magnetic Field Sensor with Constant Tunneling Current Maintained Between Tunneling Tip and Rotatable Magnet, Navy Case No. 75,125.//U.S. Patent No. 5,483,017: High Temperature Thermosets and Ceramics Derived from Linear Carborane-(siloxane or Silane)-acetylene Copolymers, Navy Case No. 76,338.//U.S. Patent No. 5,486,495: Germanate Glass Ceramic, Navy Case No. 76,190.//U.S. Patent No. 5,488,475: Active Fiber Cavity Strain Sensor with Temperature Independence, Navy Case No. 74,944.//U.S. Patent No. 5,497,053: Micro-electron Deflector, Navy Case No. 74,713.//U.S. Patent No. 5,502,448: Method and Means for Short Pulse Interference Rejection, Navy Case No. 59,711.//U.S. Patent No. 5,516,662: Process for the Preparation of Headgroup-modified Phospholipids Using Phosphatidylhydroxyalkanols as Intermediates, Navy Case No. 76,876.//U.S. Patent No. 5,526,170: Fiber Optic Continuous True Time-delay Modulator, Navy Case No. 74,701.//U.S. Patent No. 5,528,367: In-line Fiber Etalon Strain Sensor, Navy Case No. 75,890.//U.S. Patent No. 5,529,841: Hydrogen Sulfide Analyzer with Protective Barrier, Navy Case No. 75,866.//U.S. Patent No. 5,530,448: Three-pulse MTI Without Blind Speeds, Navy Case No. 67,398.//U.S. Patent No. 5,532,057: India-stabilized Ziroconia Coating for Composites, Navy Case No. 76,875.//U.S. Patent No. 5,532,979: Towed Array Strain-sensing Noise Canceller, Navy Case No. 65,096.//U.S. Patent No. 5,534,311: Production of Structures by Electrostatically-focused Deposition, Navy Case No. 76,221.//

U.S. Patent No. 5,535,176: Method and System for Sensing with an Active Acoustic Array, Navy Case No. 73,541.//U.S. Patent No. 5,535,232: Optically Pumped, Praseodymium Based Solid State Laser, Navy Case No. 76,651.//U.S. Patent No. 5,535,815: Package-interface Thermal Switch, Navy Case No. 76,386.//U.S. Patent No. 5,539,758: Upconversion Pumped Thulium Fiber Amplifier and Laser Operating At 790 to 830 Nm, Navy Case No. 76,084.//U.S. Patent No. 5,541,868: Annular GMR-based Memory Element, Navy Case No. 76,485.//U.S. Patent No. 5,552,505: High Temperature Copolymers from Inorganic-organic Hybrid Polymers and Multi-ethynylbenzenes, Navy Case No. 76,343.//U.S. Patent No. 5,552,787: Measurement of Topography Using Polarimetric Synthetic Aperture Radar (SAR), Navy Case No. 77,043.//U.S. Patent No. 5,559,754: Sediment Classification System, Navy Case No. 75,520.//U.S. Patent No. 5,560,960: Polymerized Phospholipid Membrane Mediated Synthesis of Metal Nanoparticles, Navy Case No. 76,030.//U.S. Patent No. 5,561,546: Method and Apparatus for Improving the Sensitivity of Optical Modulators, Navy Case No. 75,887.//U.S. Patent No. 5,561,676: Compound-cavity, High-power, Modelocked Semiconductor Laser, Navy Case No. 76,060.//U.S. Patent No. 5,563,181: Siloxane Unsaturated Hydrocarbon Based Thermosetting Polymers, Navy Case No. 76,202.//U.S. Patent No. 5,574,739: Polarization-stable Pulsed Laser, Navy Case No. 76,283.//U.S. Patent No. 5,574,961: Phase-separated Material (U), Navy Case No. 68,101.//U.S. Patent No. 5,584,740: Thin-film Edge Field Emitter Device and Method of Manufacture Therefor, Navy Case No. 75,894.//U.S. Patent No. 5,587,829: Method and Apparatus for Signal Filtering, Navy Case No. 75,667.//U.S. Patent No. 5,591,969: Inductive Detector for Time-of-flight Mass Spectrometers, Navy Case No. 76,212.//U.S. Patent No. 5,599,751: Alkaline Earth Modified Germanium Sulfide Glass, Navy Case No. 76,270.//U.S. Patent No. 5,604,629: Discrete Vacuum Ultra Violet Reflective Interference Filter, Navy Case No. 74,607.//U.S. Patent No. 5,606,214: Smart Actuator for Active Surface Control, Navy Case No. 76,329.//U.S. Patent No. 5,606,533: Data Acquisition System and Method, Navy Case No. 75,521.//U.S. Patent No. 5,608,321: Method and Apparatus for Detecting Target Species Having Quadropolar Muclei by Stochastic Nuclear Quadrupole Resonance, Navy Case No. 76,330.//U.S. Patent No. 5,612,901: Apparatus and Method for Cloud Masking, Navy Case No. 76,206.//U.S. Patent No. 5,619,093: Electron Field Emission, Navy Case No. 76,405.//U.S. Patent No. 5,619,364: Depolarized Source for High Power Operation of an Integrated Optical Modulator, Navy Case No. 76,198.//U.S. Patent No. 5,621,522: Fiber Optic Probe for Determination of Trace Levels of Organic Pollutants Using Raman Spectroscopy, Navy Case No. 76,032.//U.S. Patent No. 5,629,248: Modified Germanium Sulfide Glass, Navy Case No. 77,262.//U.S. Patent No. 5,633,960: Spatially Averaging Fiber Optic Accelerometer Sensors, Navy Case No. 77,985.//U.S. Patent No. 5,637,883: Optically Addressed Spatial Light Modulator Using an Intrinsic Semiconductor Active Material and High Resistivity Cladding Layers, Navy Case No. 76,694.//U.S. Patent No. 5,642,445: System for Determining an Interior or Exterior Acoustic Noise Level of an Enclosed Structure and Noise Reduction Device Incorporating Such System, Navy Case No. 76,294.//U.S. Patent No. 5,644,664: Fiber Optic Digital Transmission System, Navy Case No. 76,817.//U.S. Patent No. 5,644,665: Multi-octave, High Dynamic Range Operation of Low-biased Modulators by Balanced Detection, Navy Case No. 75,989.//U.S. Patent No. 5,648,201: Efficient Chemistry for Selective Modification and Metallization of Substrates, Navy Case No. 74,943.//U.S. Patent No. 5,651,019: Solid-state Blue Laser Source, Navy Case No. 75,940.//U.S. Patent No. 5,652,027: Robust, Nontoxic, Antifouling Polymer, Navy Case No. 76,808.//U.S. Patent No. 5,652,431: In-situ Monitoring and Feedback Control of Metalorganic Precursor Delivery, Navy Case No. 77,006.//U.S. Patent No. 5,654,558: Interband Lateral Resonant Tunneling Transistor, Navy Case No. 74,851.//U.S. Patent No. 5,660,920: Inter-level Dielectrics with Low Dielectric Constants, Navy Case No. 76,945.//U.S. Patent No. 5,661,062: Ultra High Density, Non-volatile Ferromagnetic Random Access Memory, Navy Case No. 76,963.//U.S. Patent No. 5,663,387: Liposomes Containing Polymerized Lipids for Non-covalent Immobilization of Proteins and Enzymes, Navy Case No. 77,212.//U.S. Patent No. 5,665,430: Chemical Vapor Deposition Method for Depositing Diamond Using a High Temperature Vacuum Substrate Mount, Navy Case No. 73,518.//U.S. Patent No. 5,665,618: Method of Forming an Interband Lateral Resonant Tunneling Transistor with Single Narrow Gate Electrode, Navy Case No. 76,853.//U.S. Patent No. 5,668,779: Hydrophone Group Design for Shallow Towed Applications, Navy Case No. 76,078.//U.S. Patent No. 5,674,752: Conductive Polymer Coated Fabrics for Chemical Sensing, Navy Case No. 76,990.//U.S. Patent No. 5,679,818: Inorganic Arylacetylenic Monomers, Navy Case No. 77,458.//U.S. Patent No. 5,680,489: Optical Sensor System Utilizing Bragg Grating Sensors, Navy Case No. 76,150.//U.S. Patent No. 5,681,870: High Temperature Thermosets/ceramics from Novel Hybrid Copolymer Containing Random Distribution of Boranyl, Silyl, or Siloxyl, and Acetylenic Units, Navy Case No. 76,992.//U.S. Patent No. 5,682,238: Multiple, Parallel, Spatial Measurement of Electrical Phase, Navy Case No. 76,361.//U.S. Patent No. 5,688,642: Selective Attachment of Nucleic Acid Molecules to Patterned Self-assembled Surfaces, Navy Case No. 76,081.//U.S. Patent No. 5,703,373: Alignment Fiducial for Improving Patterning Placement Accuracy in E-beam Masks for X-ray Lithography, Navy Case No. 76,604.//U.S. Patent No. 5,704,976: High Temperature, High Rate, Epitaxial Synthesis of Diamond in a Laminar Plasma, Navy Case No. 73,286.//U.S. Patent No. 5,706,079: Ultra-high Sensitivity Transducer with Chirped Bragg Grating Relector, Navy Case No. 76,107.//U.S. Patent No. 5,706,192: Antiphase Switching in Arrays of Globally Coupled Oscillators, Navy Case No. 76,908.//U.S. Patent No. 5,707,702: Epoxy Pipelining Composition and Method of Manufacture, Navy Case No. 77,846.//U.S. Patent No. 5,729,239: Voltage Controlled Ferroelectric Lens Phased Array, Navy Case No. 76,571.//U.S. Patent No. 5,734,667: Polarization-stable Laser, Navy Case No. 75,937.//U.S. Patent No. 5,745,234: Variable Angle Reflectometer Employing an Integrating Sphere and a Light Concentrator, Navy Case No. 76,543.//U.S. Patent No. 5,746,942: Erbium-doped Low Phonon Hosts as Sources of Fluorescent Emission, Navy Case No. 77,323.//U.S. Patent No. 5,748,312: Sensing Apparatus and Method for Detecting Strain Between Fiber Bragg Grating Sensors Inscribed Into an Optical Fiber, Navy Case No. 76,271.//U.S. Patent No. 5,754,572: Mirrorless, Distributed-feedback, Ultraviolet, Tunable, Narrow-linewidth, Solid State Laser, Navy Case No. 77,842.//U.S. Patent No. 5,755,947: Adhesion Enhancement for Underplating Problem, Navy Case No. 76,763.//U.S. Patent No. 5,756,629: Method for Synthesis of Linear Inorganic-organic Hybrid Polymers, Navy Case No. 77,485.//U.S. Patent No. 5,757,487: Methods and Apparatus for Distributed Optical Fiber Sensing of Strain or Multiple Parameters, Navy Case No. 76,793.//U.S. Patent No. 5,763,066: Nonlinear Optical Inclusion Complexes, Navy Case No. 76,909.//U.S. Patent No. 5,764,662: Solid State Ultraviolet Laser Tunable from 223 NM to 243 NM, Navy Case No. 78,060.//U.S. Patent No. 5,766,343: Lower Bandgap, Lower Resistivity, Silicon Carbide Heteroepitaxial Material, and Method of Making Same, Navy Case No. 75,994.//U.S. Patent No. 5,772,907: Lactic Acid Treatment of InP Materials, Navy Case No. 76,616.//U.S. Patent No. 5,780,178: Scandia, Yttria-stabilized Zirconia for Ultra-high Temperature Thermal Barrier Coatings, Navy Case No. 77,425.//U.S. Patent No. 5,780,569: Linear Carborane-(siloxane or Silane)-acetylene Based Copolymers, Navy Case No. 76,339.//U.S. Patent No. 5,781,063: Continuous-time Adaptive Learning Circuit, Navy Case No. 76,796.//U.S. Patent No. 5,793,787: Type II Quantum Well Laser with Enhanced Optical Matrix, Navy Case No. 77,044.//U.S. Patent No. 5,795,813: Radiation-hardening of SOI by Ion Implantation Into the Buried Oxide Layer, Navy Case No. 77,776.//U.S. Patent No. 5,798,540: Electronic Devices with InAlAsSb/AlSb Barrier, Navy Case No. 78,235.//U.S. Patent No. 5,799,026: Interband Quantum Well Cascade Laser, with a Blocking Quantum Well for Improved Quantum Efficiency, Navy Case No. 77,605.//U.S. Patent No. 5,800,934: Zinc Oxide Stabilized Zirconia, Navy Case No. 77,201.//U.S. Patent No. 5,804,321: Diamond Brazed to a Metal, Navy Case No. 75,122.//U.S. Patent No. 5,804,715: Hydrodynamic Dampening System for the Precise Measurement of Dynamic Sediment Pore Water Pressure, Navy Case No. 77,932.//U.S. Patent No. 5,804,967: Apparatus and Method for Generating Short Pulses for NMR and NQR Processing, Navy Case No. 76,798.//U.S. Patent No. 5,805,326: Optical Limiter Structure and Method, Navy Case No. 75,591.//U.S. Patent No. 5,807,953: Thermostet Polymers from Inorganic Arylacetylenic Monomers, Navy Case No. 77,459.//U.S. Patent No. 5,807,967: Fluoroaliphatic Cyanate Resins for Low Dielectric Applications, Navy Case No. 76,934.//U.S. Patent No. 5,815,465: Method and Apparatus of Classifying Marine Sediment, Navy Case No. 78,245.//U.S. Patent No. 5,818,585: Fiber Bragg Grating Interrogation System with Adaptive Calibration, Navy Case No. 77,811.//U.S. Patent No. 5,818,940: Switching Matrix, Navy Case No. 54,067.//U.S. Patent No. 5,822,111: Apparatus and Method for Coherent Acousto-optic Signal Width Modification, Navy Case No. 76,027.//U.S. Patent No. 5,824,512: Bacteria Expressing Metallothionein Gene Into the Periplasmic Space, and Method of Using Such Bacteria in Environment Cleanup, Navy Case No. 77,640.//U.S. Patent No. 5,825,489: Mandrell Based Embedded Planar Fiber-optic Interferometric Acoustic Sensor, Navy Case No. 75,117.//U.S. Patent No. 5,827,748: Chemical Sensor Using Two-dimensional Lens Array, Navy Case No. 77,937.//U.S. Patent No. 5,834,057: Method of Making Chemically Engineered Metastable Alloys and Multiple Components Nanoparticles, Navy Case No. 76,842.//U.S. Patent No. 5,838,428: System and Method for High Resolution Range Imaging with Split Light Source and Pattern Mask, Navy Case No. 77,337.//U.S. Patent No. 5,838,675: Channelized Receiver-front-end Protection Circuit Which Demultiplexes Broadband Signals Into a Plurality of Different Microwave Signals in Respective Contiguous Frequency Channels, Phase Adjusts and Multiplexes Channels, Navy Case No. 76,895.//U.S. Patent No. 5,839,177: Pneumatic Rod Loading Apparatus, Navy Case No. 76,510.//U.S. Patent No. 5,839,290: Organic/inorganic Composite Wicks for Caillary Pumped Loops, Navy Case No. 78,005.//U.S. Patent No. 5,843,245: Process for Making Superplastic Steel Powder and Flakes, Navy Case No. 77,675.//U.S. Patent No. 5,844,052: Linear Metallocene Polymers Containing Acetylenic and Inorganic Units and Thermosets and Ceramics Therefrom, Navy Case No. 77,711.//U.S. Patent No. 5,844,161: High Velocity Electromagnetic Mass Launcher Having an Ablation Resistant Insulator, Navy Case No. 79,102.//U.S. Patent No. 5,844,709: Multiple Quantum Well Electrically/optically Addressed Spatial Light Modulator, Navy Case No. 77,805.//U.S. Patent No. 5,847,019: Photoactivatable Polymers for Producing Patterned Biomolecular Assemblies, Navy Case No. 77,978.//U.S. Patent No. 5,854,587: RE.sub.x M.sub.1-x Mn.sub.y O.sub..delta. Films for Microbolometer-based IR Focal Plane Arrays, Navy Case No. 77,841.//U.S. Patent No. 5,854,865: Method and Apparatus for Side Pumping an Optical Fiber, Navy Case No. 77,239.//U.S. Patent No. 5,855,716: Parallel Contact Patterning Using Nanochannel Glass, Navy Case No. 76,713.//U.S. Patent No. 5,856,630: High Velocity Electromagnetic Mass Launcher Having an Ablation Resistant Insulator, Navy Case No. 75,975.//U.S. Patent No. 5,858,513: Channeled Ceramic Structure and Process for Making Same, Navy Case No. 77,560.//U.S. Patent No. 5,869,762: Monolithic Piezoelectric Accelerometer, Navy Case No. 77,076.//U.S. Patent No. 5,872,368: Method of Controlling a Super Conductor, Navy Case No. 77,149.//U.S. Patent No. 5,874,749: Polarized Optical Emission Due to Decay or Recombination of Spin-polarized Injected Carriers, Navy Case No. 74,741.//U.S. Patent No. 5,874,807: Large Area Plasma Processing System (LAPPS), Navy Case No. 78,392.//U.S. Patent No. 5,876,480: Synthesis of Unagglomerated Metal Nano-particles At Membrane Interfaces, Navy Case No. 77,218.//U.S. Patent No. 5,885,367: Retractable Thin Film Solar Concentrator for Spacecraft, Navy Case No. 77,813.//U.S. Patent No. 5,891,575: Growing and Releasing Diamonds, Navy Case No. 77,602.//U.S. Patent No. 5,895,726: Lightweight High Damping Porous Metal/phthalonitrile Composites, Navy Case No. 77,896.//U.S. Patent No. 5,897,794: Method and Apparatus for Ablative Bonding Using a Pulsed Electron, Navy Case No. 76,815.//U.S. Patent No. 5,902,396: Ammonothermal Growth of Chalcogenide Single Crystal Materials, Navy Case No. 78,346.//U.S. Patent No. 5,903,349: Fiber Optic Accelerometer Sensor and a Method of Constructing Same, Navy Case No. 77,993.//U.S. Patent No. 5,905,204: Test Specimen Design Incorporating Multiple Fracture Sites and Multiple Strain Material Fractures, Navy Case No. 79,058.//U.S. Patent No. 5,912,286: Silicone-containing Fluoropolymers for Controlled Release of Organic Leachants, Navy Case No. 78,068.//U.S. Patent No. 5,914,912: Sonar Array Post Processor, Navy Case No. 78,397.//U.S. Patent No. 5,916,510: Channeled Ceramic Structure and Process for Making Same, Navy Case No. 79,539.//U.S. Patent No. 5,917,970: Wavelength Multiplexed, Electro-optically Controllable, Fiber Optic Multi-tap Delay Line, Navy Case No. 78,505.//U.S. Patent No. 5,923,776: Object Extraction in Images, Navy Case No. 76,789.//U.S. Patent No. 5,925,475: Phthalonitrile Thermoset Polymers and Composites Cured with Halogen-containing Aromatic Amine Curing Agents, Navy Case No. 78,736.//U.S. Patent No. 5,939,508: High Temperature Epoxy-phthalonitrile Blends, Navy Case No. 78,337.//U.S. Patent No. 5,943,001: Swept Comb Method of Jamming, Navy Case No. 56,668.//U.S. Patent No. 5,955,849: Cold Field Emitters with Thick Focusing Grids, Navy Case No. 75,216.//U.S. Patent No. 5,956,171: Electro-optic Modulator and Method, Navy Case No. 77,484.//U.S. Patent No. 5,958,592: Composites of Fluoroaliphatic Cyanate Resins for Low Dielectric Applications, Navy Case No. 78,893.//U.S. Patent No. 5,959,753: Ultra High Bit Rate All Optical Communication System, Navy Case No. 74,964.//U.S. Patent No. 5,965,268: Carbon-based Composites Derived from Phthalonitrile Resins, Navy Case No. 78,474.//U.S. Patent No. 5,966,089: Wrapping of Soft Chaff Muffin for Supersonic Deployment, Navy Case No. 54,964.//U.S. Patent No. 5,969,072: Silyl and Siloxyl Substituted Carboranes with Unsaturated Organic End Groups, Navy Case No. 78,319.//U.S. Patent No. 5,969,978: Read/write Memory Architecture Employing Closed Ring Elements, Navy Case No. 78,485.//U.S. Patent No. 5,973,653: Inline Coaxial Balun-fed Ultrawideband Cornu Flared Horn Antenna, Navy Case No. 78,290.//U.S. Patent No. 5,976,444: Nanochannel Glass Replica Membranes, Navy Case No. 76,715.//U.S. Patent No. 5,980,853: Aromatic Acetylenes as Carbon Precursors, Navy Case No. 79,540.//U.S. Patent No. 5,981,678: Polymer Precursor Composition, Crosslinked Polymers, Thermosets and Ceramics Made with Silyl and Siloxyl Substituted Carboranes with Unsaturated Organic End Groups, Navy Case No. 78,318.//U.S. Patent No. 5,986,032: Linear Metallocene Polymers Containing Acetylenic and Inorganic Units and Thermosets and Ceramics Therefrom, Navy Case No. 77,713.//U.S. Patent No. 5,986,784: Adaptive Polarization Diversity Detection Scheme for Coherent Communications and Interferometric Fiber Sensors, Navy Case No. 76,755.//U.S. Patent No. 5,991,036: Two-dimensional Opto-electronic Imager for Millimeter and Microwave Electro-magnetic Radiation, Navy Case No. 78,180.//U.S. Patent No. 6,001,926: Fiber-reinforced Phthalonitrile Composite Cured with Low-reactivity Aromatic Amine Curing Agent, Navy Case No. 78,246.//U.S. Patent No. 6,010,584: High Temperature Shape Memory Effect in Ruthenium Alloys, Navy Case No. 78,108.//U.S. Patent No. 6,014,251: Optical Filters Based on Uniform Arrays of Metallic Waveguides, Navy Case No. 78,182.//U.S. Patent No. 6,016,198: Electro-optic Reflection Device with Traveling-wave Structure, Navy Case No. 77,856.//U.S. Patent No. 6,017,658: Lithographic Mask and Method for Fabrication Thereof, Navy Case No. 74,102.//U.S. Patent No. 6,020,209: Microcapillary-based Flow-through Immunosensor and Displacement Immunoassay Using the Same, Navy Case No. 78,211.//U.S. Patent No. 6,025,453: Linear Inorganic-organic Hybrid Copolymers Containing Random Distribution of Boranyl, Silyl, or Siloxyl, and Acetylenic Units, Navy Case No. 76,991.//U.S. Patent No. 6,034,383: High Power Density Microwave HBT with Uniform Signal Distribution, Navy Case No. 78,399.//U.S. Patent No. 6,049,381: Real Time Suspended Particle Monitor, Navy Case No. 74,852.//U.S. Patent No. 6,051,775: Device for Tensioning Sheet Members, Navy Case No. 78,667.//U.S. Patent No. 6,054,856: Magnetic Resonance Detection Coil That Is Immune to Environmental Noise, Navy Case No. 78,475.//U.S. Patent No. 6,056,032: Apparatus for Winding Optic Fiber Coils, Navy Case No. 79,170.//U.S. Patent No. 6,064,718: Field Emission Tube for a Mobile X-ray Unit, Navy Case No. 78,568.//U.S. Patent No. 6,066,028: Polishing of Copper, Navy Case No. 78,895.//U.S. Patent No. 6,071,791: Radiation-hardening of Microelectronic Devices by Ion Implantation Into the Oxide and Annealing, Navy Case No. 79,382.//U.S. Patent No. 6,072,919: Apparatus and Method for Improving the Frequency Response of Modulators Based on the Sagnac Interferometer, Navy Case No. 78,300.//U.S. Patent No. 6,077,421: Metal Complexing, Navy Case No. 77,538.//U.S. Patent No. 6,078,706: Quasi-static Fiber Pressure Sensor, Navy Case No. 78,952.//U.S. Patent No. 6,081,633: Fiber Optic Sensor Array System with Forward Coupled Topology, Navy Case No. 75,938.//U.S. Patent No. 6,081,979: Method of Making a Transducing Composite of Sintered Piezoelectric Ceramic Granules in a Polymer Matrix, Navy Case No. 79,818.//U.S. Patent No. 6,085,128: Orbit/covariance Estimation and Analysis (OCEAN) Determination for Satellites, Navy Case No. 78,593.//U.S. Patent No. 6,087,005: Adhesion of Silicon Oxide to Diamond, Navy Case No. 75,406.//U.S. Patent No. 6,087,193: Method of Production of Fet Regulatable Field Emitter Device, Navy Case No. 76,278.//U.S. Patent No. 6,087,274: Nanoscale X-Y-Z Translation of Nanochannel Glass Replica-based Masks for Making Complex Structures During Patterning, Navy Case No. 78,247.//U.S. Patent No. 6,091,311: Selectable Path Stripline/slotline Digital Phase Shifter, Navy Case No. 78,396.//U.S. Patent No. 6,091,490: Fiber-optic Pipette (FOP) for Rapid Long Pathlength Capillary Spectroscopy, Navy Case No. 78,597.//U.S. Patent No. 6,096,430: Robust, Nontoxic, Antifouling Polymer, Navy Case No. 78,286.//U.S. Patent No. 6,100,704: Quantitative Mobility Spectrum Analysis of Magnetic-field Dependent Hall and Resistivity Data, Navy Case No. 78,746.//U.S. Patent No. 6,100,831: Optoelectronic Analog-to-digital Converter Using Wavelength Division Multiplexing, Navy Case No. 78,523.//U.S. Patent No. 6,101,454: Apparatus to Oscillograph Single Sub-nanosecond Events, Navy Case No. 79,100.//U.S. Patent No. 6,103,534: Cyclone Aerosol Sampler and Biological Aerosol Chemiluminescent Detection System Employing the Same, Navy Case No. 79,314.//U.S. Patent No. 6,104,190: Nuclear Quadrupole Resonance (NQR) Method and Apparatus for Detecting a Nitramine Explosive, Navy Case No. 78,931.//U.S. Patent No. 6,104,517: Secure Communications System, Navy Case No. 56,722.//U.S. Patent No. 6,104,672: General Fluctuation Sensitive Filter, Navy Case No. 78,266.//U.S. Patent No. 6,106,609: Formation of Nanocrystalline Semiconductor Particles Within a Bicontinuous Cubic Phase, Navy Case No. 78,047.//U.S. Patent No. 6,107,898: Microwave Channelized Bandpass Filter Having Two Channels, Navy Case No. 78,522.//U.S. Patent No. 6,113,451: Atomically Sharp Field Emission Cathodes, Navy Case No. 80,220.//U.S. Patent No. 6,122,305: Broadband Mode-locked Fiber Laser, Particularly for Fiber Bragg Grating Interrogation, Navy Case No. 78,917.//U.S. Patent No. 6,126,995: Process for Producing Stable Divalent Scandium, Navy Case No. 78,393.//U.S. Patent No. 6,133,593: Channel Design to Reduce Impact Ionization in Heterostructure Field-effect Transistors, Navy Case No. 79,431.//U.S. Patent No. 6,137,442: Chirped Fiber Grating Beamformer for Phased Array Antennas, Navy Case No. 78,531.//U.S. Patent No. 6,137,811: System for Conditioning an Electron Beam for Improved Free-electron Laser Operation, Navy Case No. 75,311.//U.S. Patent No. 6,140,742: High Authority Actuator, Navy Case No. 77,862.//U.S. Patent No. 6,141,480: Technique for Location of Embedded Fiber Optic Sensors, Navy Case No. 78,913.//U.S. Patent No. 6,143,569: Chelators Exhibiting Triple Fluorescence, Navy Case No. 78,806.//U.S. Patent No. 6,143,849: Synthesis of Acrylate and Alkyl Acrylate Monomers and Polymers of Chelators, Navy Case No. 77,582.//U.S. Patent No. 6,153,495: Advanced Methods for Making Semiconductor Devices by Low Temperature Direct Bonding, Navy Case No. 78,939.//U.S. Patent No. 6,157,133: Metal Oxide Discharge Lamp, Navy Case No. 78,792.//U.S. Patent No. 6,166,459: Capacitor Mounting Arrangement for Marx Generators, Navy Case No. 79,356.//U.S. Patent No. 6,171,693: Structures with Improved Magnetic Characteristics for Giant Magneto-resistance Applications, Navy Case No. 79,186.//U.S. Patent No. 6,173,090: Apparatus for Ingress and Egress of Fiber Optic Sensor Leads from the Surface of Composite Parts and a Method for the Manufacture Thereof, Navy Case No. 78,914.//U.S. Patent No. 6,174,081: Specular Reflection Optical Bandgap Thermometry, Navy Case No. 78,289.//U.S. Patent No. 6,177,057: Process for Preparing Bulk Cubic Gallium Nitride, Navy Case No. 79,320.//U.S. Patent No. 6,180,381: Pseudomonas Chlororaphis Microorganism, Polyurethane Degrading Enzyme Obtained Therefrom, and Method of Use, Navy Case No. 78,944.//U.S. Patent No. 6,187,703: High Temperature Ceramics Derived from Linear Carborane-(siloxane or Silane)-acetylene Copolymers, Navy Case No. 77,160.//U.S. Patent No. 6,190,428: Electrochemical Process for Removing Low-valent Sulfur from Carbon, Navy Case No. 77,413.//U.S. Patent No. 6,191,523: Tranducing Composite of Sintered Piezoelectric Ceramic Granules in a Polymer Matrix, Navy Case No. 77,898.//U.S. Patent No. 6,192,128: Current-sensitive Telephone-line Disconnect System, Navy Case No. 41,503.//U.S. Patent No. 6,192,927: Valve Capable of Simultaneous Ejection of a Plurality of Gases, Navy Case No. 82,675.//U.S. Patent No. 6,194,184: Compounds Labeled with Cyanate or Thiocyanate Metal Complexes for Detection by Infrared Spectroscopy, Navy Case No. 79,813.//U.S. Patent No. 6,194,695: Photoreceptor Array for Linear Optical Flow Measurement, Navy Case No. 79,264.//U.S. Patent No. 6,201,342: Automatically Sharp Field Emission Cathodes, Navy Case No. 78,234.//U.S. Patent No. 6,201,763: Depthimeter, Navy Case No. 79,322.//U.S. Patent No. 6,205,200: Mobile X-ray Unit, Navy Case No. 78,059.//U.S. Patent No. 6,210,128: Fluidic Drive for Miniature Acoustic Fluidic Pumps and Mixers, Navy Case No. 79,401.//U.S. Patent No. 6,218,965: Moving Map Composer (MMC), Navy Case No. 76,358.//U.S. Patent No. 6,220,548: Deployed Equipment Modules for Satellite Architecture Improvement, Navy Case No. 78,636.// U.S. Patent No. 6,225,247: Polymer Precursor Composition, Crosslinked Polymers, Thermosets and Ceramics Made with Silyl and Siloxyl Substituted Carboranes with Unsaturated Organic End Groups, Navy Case No. 79,819.//U.S. Patent No. 6,233,373: Optical Spectrometer with Improved Geometry and Data Processing for Monitoring Fiber Optic Bragg Gratings, Navy Case No. 78,921.//U.S. Patent No. 6,239,740: Efficient Data Association with Multivariate Gaussian Distributed States, Navy Case No. 75,499.//U.S. Patent No. 6,242,324: Method for Fabricating Singe Crystal Materials Over CMOS Devices, Navy Case No. 79,316.//U.S. Patent No. 6,242,387: High Temperature Superconductor/insulator Composite Thin Films with Josephson Coupled Grains, Navy Case No. 79,579.//U.S. Patent No. 6,242,918: Apparatus and Method for Reducing the Recovery Period of a Probe in Pulsed Nuclear Quadrupole Resonance and Nuclear Magnetic Resonance Detection Systems by Varying the Impedance of a Load to Reduce Total Q Factor, Navy Case No. 77,150.//U.S. Patent No. 6,245,296: Flow Immunosensor Apparatus, Navy Case No. 74,399.//U.S. Patent No. 6,246,069: Thin-film Edge Field Emitter Device, Navy Case No. 79,154.//U.S. Patent No. 6,246,071: Zirconia-containing Transparent and Conducting Oxides, Navy Case No. 79,880.//U.S. Patent No. 6,248,842: Synthetic Polymer Matrices Including Pre-organized Chelation Sites for the Selective and Reversible Binding of Metals, Navy Case No. 78,974.//U.S. Patent No. 6,249,623: Temperature Stabilized Broadband Optical Source and Method of Using Same, Navy Case No. 78,750.//U.S. Patent No. 6,252,262: Metal Passivating Layer for III-V Semiconductors, and Improved Gate Contact for III-V-based Metal-insulator-semiconductor (MIS) Devices, Navy Case No. 78,650.//U.S. Patent No. 6,253,014: Embedded Fiber Optic Sensor, Navy Case No. 82,549.//U.S. Patent No. 6,253,615: Method and Apparatus for in Situ Measurements of Corrosion of Submerged Surfaces, Navy Case No. 79,821.//U.S. Patent No. 6,256,264: Localization of a Submerged Tow Vehicle (lost), Navy Case No. 80,239.//U.S. Patent No. 6,256,327: Red Light Source, Navy Case No. 78,046.//U.S. Patent No. 6,256,586: System for Predicting Wind-driven Setup or Setdown in Continental Shelf Region, Navy Case No. 79,927.//U.S. Patent No. 6,262,834: Wideband Single Sideband Modulation of Optical Carriers, Navy Case No. 79,759.//U.S. Patent No. 6,265,089: Electronic Devices Grown on Off-axis Sapphire Substrate, Navy Case No. 79,591.//U.S. Patent No. 6,265,336: High Temperature Ceramics Derived from Linear Carborane-(siloxane or Silane)-acetylene Copolymers, Navy Case No. 82,571.//U.S. Patent No. 6,265,515: Fluorinated Silicone Resin Fouling Release Composition, Navy Case No. 78,655.//U.S. Patent No. 6,267,866: Fabrication of a High Surface Area Boron-doped Diamond Coated Metal Mesh for Electrochemical Applications, Navy Case No. 79,273.//U.S. Patent No. 6,282,292: Amplitude Insensitive Synchronization of Nonlinear Systems, Navy Case No. 77,203.//U.S. Patent No. 6,282,761: Heat Sink Pressure Clip, Navy Case No. 80,268.//U.S. Patent No. 6,285,740: Dual Energy X-ray Densitometry Apparatus and Method Using Single X-ray Pulse, Navy Case No. 79,057.//U.S. Patent No. 6,285,806: Coherent Reflectometric Fiber Bragg Grating Sensor Array, Navy Case No. 77,982.//U.S. Patent No. 6,289,328: Chemical Sensor Pattern Recognition System and Method Using a Self-training Neural Network Classifier with Automated Outlier Detection, Navy Case No. 78,294.//U.S. Patent No. 6,290,880: Electrically Conducting Ruthenium Dioxide-aerogel Composite, Navy Case No. 79,765.//U.S. Patent No. 6,294,109: Ferroelectric and Electroclinic Liquid Crystal Materials with Sub-ambient Temperature Stability, Broad Operation Range, and Fast Dynamic Response, Navy Case No. 77,007.//U.S. Patent No. 6,296,678: Long Duration Infrared-emitting Material, Navy Case No. 79,931.//U.S. Patent No. 6,297,191: Metal Complexing, Navy Case No. 82,322.//U.S. Patent No. 6,297,298: Phthalonitrile Prepolymerization Composition, Navy Case No. 78,596.//U.S. Patent No. 6,297,772: Predicting Coherent Sidelobe Canceller, Navy Case No. 56,379.//U.S. Patent No. 6,297,987: Magnetoresistive Spin-injection Diode, Navy Case No. 79,928.//U.S. Patent No. 6,303,740: Polymolecular Structures Formed by Complementary Association of Amphiphilic Tartaric Acid Derivatives and Bipyridine Compounds, Navy Case No. 79,317.//U.S. Patent No. 6,304,685: Low Drive Voltage LiNbO3 Intensity Modulator with Reduced Electrode Loss, Navy Case No. 79,893.//U.S. Patent No. 6,307,098: Water Soluble Phosphines, Navy Case No. 82,398.//U.S. Patent No. 6,307,212: High Resolution Imaging Using Optically Transparent Phosphors, Navy Case No. 78,753.//U.S. Patent No. 6,307,895: Complex Fourier Coefficient Extractor, Navy Case No. 78,241.//U.S. Patent No. 6,309,934: Fully Self-aligned High Speed Low Power MOSFET Fabrication, Navy Case No. 78,601.//U.S. Patent No. 6,316,124: Modified InAs Hall Elements, Navy Case No. 79,805.//U.S. Patent No. 6,316,965: Non-volatile Reprogrammable Logic Circuits by Combining Negative Differential Resistance Devices and Magnetic Devices, Navy Case No. 79,905.//U.S. Patent No. 6,320,539: Fiber-optic, Wideband Array Antenna Beamformer, Navy Case No. 82,341.//U.S. Patent No. 6,323,042: Microcapillary-based Flow-through Immunosensor and Displacement Immunoassay Using the Same, Navy Case No. 80,164.//U.S. Patent No. 6,323,108: Fabrication Ultra-thin Bonded Semiconductor Layers, Navy Case No. 78,980.//U.S. Patent No. 6,328,837: Fiber Optic Accelerometer Sensor and a Method of Constructing Same, Navy Case No. 80,183.//U.S. Patent No. 6,330,741: Method of Shrink Fitting Crystalline Sapphire, Navy Case No. 79,359.//U.S. Patent No. 6,333,968: Transmission Cathode for X-ray Production, Navy Case No. 79,348.//U.S. Patent No. 6,335,062: Reactive Oxygen-assisted Ion Implantation Into Metals and Products Made Therefrom, Navy Case No. 76,497.//U.S. Patent No. 6,335,562: Method and Design for the Suppression of Single Event Upset Failures in Digital Circuits Made from GaAs and Related Compounds, Navy Case No. 79,187.//U.S. Patent No. 6,337,660: Fiber Optic True Time-delay Array Antenna Feed System, Navy Case No. 74,788.//U.S. Patent No. 6,339,394: Digital Coherent Radar, Navy Case No. 79,947.//U.S. Patent No. 6,348,240: Methods for and Products of Modification and Metallization of Oxidizable Surfaces, Including Diamond Surfaces, by Plasma Oxidation, Navy Case No. 74,278.//U.S. Patent No. 6,349,141: Dual Bi-laminate Polymer Audio Transducer, Navy Case No. 80,022.//U.S. Patent No. 6,356,510: Phase Fluctuation Enhanced Adaptive Processor, Navy Case No. 79,518.//U.S. Patent No. 6,356,673: Low Loss Coplanar Waveguide Horn for Low Drive LiNbO3 Modulators, Navy Case No. 79,925.//U.S. Patent No. 6,358,243: Dual Wavelength Surgical Laser System, Navy Case No. 76,360.//U.S. Patent No. 6,359,710: IR Radiation-seeker Missile Jammer, Navy Case No. 62,426.//U.S. Patent No. 6,362,289: High Temperature Elastomers from Linear Poly(silarylene-siloxane-acetylene), Navy Case No. 82,316.//U.S. Patent No. 6,362,759: Control Circuit, and System Using Same, Navy Case No. 80,252.//U.S. Patent No. 6,370,172: Non-exothermic Quasi-two Level Laser, Navy Case No. 78,748.//U.S. Patent No. 6,370,248: Synchronizing Autonomous Chaotic Systems Using Filters, Navy Case No. 78,584.//U.S. Patent No. 6,372,509: Situ Copper (I), Navy Case No. 78,841.//U.S. Patent No. 6,376,074: in Situ-formed Debond Layer for Fibers, Navy Case No. 82,288.//U.S. Patent No. 6,376,096: Nanochannel Glass Replica Membranes, Navy Case No. 79,909.//U.S. Patent No. 6,379,583: Nanoparticle Phosphors Manufactured Using the Bicontinuous Cubic Phase Process, Navy Case No. 80,222.//U.S. Patent No. 6,380,886: Consistent Combination of Altimeter Data from Multiple Satellites, Navy Case No. 79,432.//U.S. Patent No. 6,382,022: Shipboard Wave Measurement System, Navy Case No. 80,121.//U.S. Patent No. 6,382,299: Production of Hollow Metal Microcylinders from Lipids, Navy Case No. 79,936.//U.S. Patent No. 6,384,905: Optic Flow Sensor with Fused Elementary Motion Detector Outputs, Navy Case No. 80,217.//U.S. Patent No. 6,384,948: High-sensitivity, High-speed Digital Optical Photoreceiver, Navy Case No. 78,524.//U.S. Patent No. 6,387,618: Micronucleus Assay with Genomic DNA Hybridization Probe and Enzymatic Color Pigment Detection, Navy Case No. 79,031.//U.S. Patent No. 6,392,242: Fiducial Beam Position Monitor, Navy Case No. 78,987.//U.S. Patent No. 6,393,143: Technique for Estimating the Pose of Surface Shapes Using Tripod Operators, Navy Case No. 79,822.//U.S. Patent No. 6,402,985: Method for Preparing Efficient Low Voltage Phosphors and Products Produced Thereby, Navy Case No. 79,651.//U.S. Patent No. 6,404,366: Photonic Analog-to-digital Converter Utilizing Wavelength Division Multiplexing and Distributed Optical Phase Modulation, Navy Case No. 82,479.//U.S. Patent No. 6,405,600: Test Specimen Design Incorporating Multiple Fracture Sites and Multiple Strain State Material Fractures, Navy Case No. 77,840.//U.S. Patent No. 6,411,208: Method and Apparatus for Detecting a Target Material in a Sample by Pre-screening the Sample for Piezoelectric Resonance, Navy Case No. 77,623.//U.S. Patent No. 6,411,408: Apparatus and Method for High Repetition Rate Optical Communication Over Long Unrepeated Spans, Navy Case No. 79,802.//U.S. Patent No. 6,414,870: Magnetoquenched Superconductor Valve with Bilayer Ferromagnetic Film for Uniaxial Switching, Navy Case No. 79,624.//U.S. Patent No. 6,417,601: Piezoelectric Torsional Vibration Driven Motor, Navy Case No. 80,131.//U.S. Patent No. 6,418,083: Phase Fluctuation Based Signal Processor, Navy Case No. 79,520.//U.S. Patent No. 6,420,872: Probe for Detecting a Transient Magnetic Resonance Signal, Wherein the Ratio of the Q of the Probe to the Q of the Resonance Signal Is Relatively Large, Navy Case No. 78,339.//U.S. Patent No. 6,423,113: Continuous Fluid Atomization of Materials in a Rapidly Spinning Cup, Navy Case No. 77,388.//U.S. Patent No. 6,436,167: Synthesis of Nanostructured Composite Particles Using a Polyol Process, Navy Case No. 77,467.//U.S. Patent No. 6,436,615: Methods and Materials for Selective Modification of Photopatterned Polymer Films, Navy Case No. 78,658.//U.S. Patent No. 6,436,705: Shape Stabilized Erythrocytes, Navy Case No. 83,638.//U.S. Patent No. 6,438,242: Acoustic Transducer Panel, Navy Case No. 79,414.//U.S. Patent No. 6,440,056: Diacetylenics Containing Adjacent Triple Bonds, Navy Case No. 82,582.//U.S. Patent No. 6,443,892: Sweat Collecting Device and Methods for Use and Detection of Tampering, Navy Case No. 80,182.//U.S. Patent No. 6,445,264: Mobius Resonator and Filter, Navy Case No. 79,815.//U.S. Patent No. 6,445,796: Automatic Telephone-line Disconnect System, Navy Case No. 43,148.//U.S. Patent No. 6,448,648: Metalization of Electronic Semiconductor Devices, Navy Case No. 77,795.//U.S. Patent No. 6,448,909: Analog Continuous Wavelet Transform Circuit, Navy Case No. 80,170.//U.S. Patent No. 6,452,564: RF Surface Wave Attenuating Dielectric Coatings Composed of Conducting, High Aspect Ratio Biologically-derived Particles in a Polymer Matrix, Navy Case No. 79,423.//U.S. Patent No. 6,462,559: Digital Envelope Detector, Navy Case No. 82,540.//U.S. Patent No. 6,468,809: High Efficiency Magnetic Sensor for Magnetic Particles, Navy Case No. 79,585.//U.S. Patent No. 6,476,757: Secure I/P, Navy Case No. 52,128.//U.S. Patent No. 6,476,957: Image Rejecting Microwave Photonic Downconverter, Navy Case No. 79,800.//U.S. Patent No. 6,477,515: Efficient Computation of Least Cost Paths with Hard Constraints, Navy Case No. 79,300.//U.S. Patent No. 6,482,639: Microelectronic Device and Method for Label-free Detection and Quantification of Biological and Chemical Molecules, Navy Case No. 82,541.//U.S. Patent No. 6,483,134: Integrated Circuits with Immunity to Single Event Effects, Navy Case No. 76,735.//U.S. Patent No. 6,483,640: Optical Notch Filters Based on Two-dimensional Photonic Band-gap Materials, Navy Case No. 77,971.//U.S. Patent No. 6,487,004: Optical Image Reject Down Converter, Navy Case No. 82,339.//U.S. Patent No. 6,487,915: Method for Characterizing Residual Stress in Metals, Navy Case No. 79,857.//U.S. Patent No. 6,490,360: Dual Bi-laminate Polymer Audio Transducer, Navy Case No. 83,496.//U.S. Patent No. 6,492,014: Mesoporous Composite Gels an Aerogels, Navy Case No. 79,515.//U.S. Patent No. 6,492,936: Frequency Spectrum Analyzer, Navy Case No. 48,447.//U.S. Patent No. 6,493,068: Optic Flow Sensor with Negative Iris Photoreceptor Array, Navy Case No. 79,907.//U.S. Patent No. 6,495,483: Linear Metallocene Polymers Containing Acetylenic and Inorganic Units and Thermosets and Ceramics Therefrom, Navy Case No. 77,712.//U.S. Patent No. 6,497,763: Electronic Device with Composite Substrate, Navy Case No. 82,672.//U.S. Patent No. 6,498,249: Phthalocyanines with Peripheral Siloxane Substitution, Navy Case No. 82,650.//U.S. Patent No. 6,501,258: Optical Spatial Frequency Measurement, Navy Case No. 79,275.//U.S. Patent No. 6,501,724: Method and Apparatus for Parallel Readout and Correlation of Data on Optical Disks, Navy Case No. 82,960.//U.S. Patent No. 6,501,971: Magnetic Ferrite Microwave Resonator Frequency Adjuster and Tunable Filter, Navy Case No. 77,321.//U.S. Patent No. 6,503,573: Bomb Annealing of Thin Films, Navy Case No. 78,754.//U.S. Patent No. 6,509,729: Multiple Simultaneous Optical Frequency Measurement, Navy Case No. 79,276.//U.S. Patent No. 6,510,107: Acoustic Method and System for Measuring Fish Population Data in Littoral Environments, Navy Case No. 79,274.//U.S. Patent No. 6,512,720: Underwater Telemetry Method Using Doppler Compensation, Navy Case No. 83,895.//U.S. Patent No. 6,522,135: Nuclear Quadrupole Resonance (NQR) Method and Probe for Generating RF Magnetic Fields in Different Directions to Distinguish NQR from Acoustic Ringing Induced in a Sample, Navy Case No. 77,719.//U.S. Patent No. 6,528,795: Compton Scatter Imaging Instrument, Navy Case No. 80,166.//U.S. Patent No. 6,529,063: Thermally Stable Cascode, Navy Case No. 78,322.//U.S. Patent No. 6,531,979: Adaptive Time-compression Stabilizer, Navy Case No. 49,013.//U.S. Patent No. 6,534,125: Process for Adhering an Oxide of Silicon to a Diamond Surface Having Non-diamond Carbon Thereon, Navy Case No. 82,510.//U.S. Patent No. 6,535,320: Traveling Wave, Linearized Reflection Modulator, Navy Case No. 78,820.//U.S. Patent No. 6,541,270: Method, Detector, and Apparatus for Colorimetric Detection of Chemical and Biological Agents, Navy Case No. 79,055.//U.S. Patent No. 6,551,898: Creation of a Polarizable Layer in the Buried Oxide of Silicon-on-insulator Substrates for the Fabrication of Non-volatile Memory, Navy Case No. 82,554.//U.S. Patent No. 6,552,554: Testing Current Perpendicular to Plane Giant Magnetoresistance Multilayer Devices, Navy Case No. 82,678.//U.S. Patent No. 6,554,673: Method of Making Electron Emitters, Navy Case No. 80,023.//U.S. Patent No. 6,555,451: Method for Making Shallow Diffusion Junctions in Semiconductors Using Elemental Doping, Navy Case No. 79,596.//U.S. Patent No. 6,562,127: Method of Making Mosaic Array of Thin Semiconductor Material of Large Substrates, Navy Case No. 79,225.//U.S. Patent No. 6,566,529: Two-photon Absorption Materials Based on DTT, Navy Case No. 79,809.//U.S. Patent No. 6,568,979: Method of Manufacturing a Low Gate Current Field Emitter Cell and Array with Vertical Thin-film-edge Emitter, Navy Case No. 83,555.//U.S. Patent No. 6,569,308: Fabrication of a High Surface Area Diamond-like Carbon or Dirty Diamond Coated Metal Mesh for Electrochemical Applications, Navy Case No. 80,090.//U.S. Patent No. 6,573,489: Passive, Temperature Compensated Techniques for Tunable Filter Calibration in Bragg-grating Interrogation Systems, Navy Case No. 82,373.//U.S. Patent No. 6,576,156: Phosphors with Nanoscale Grain Sizes and Methods for Preparing the Same, Navy Case No. 79,586.//U.S. Patent No. 6,579,722: Chemiluminescence Chemical Detection of Vapors and Device Therefor, Navy Case No. 76,653.//U.S. Patent No. 6,579,955: High Temperature Elastomers from Linear Poly(silarylene-siloxane-acetylene), Navy Case No. 83,637.//U.S. Patent No. 6,580,855: Bandwidth Tunable Gratings for Dynamic Dispersion Compensation in Lightwave, Navy Case No. 82,419.//U.S. Patent No. 6,593,212: Method for Making Electro-optical Devices Using a Hydrogenion Splitting Technique, Navy Case No. 79,639.//U.S. Patent No. 6,595,820: Field Emitter Cell and Array with Vertical Thin-film-edge Emitter, Navy Case No. 82,558.//U.S. Patent No. 6,598,554: Submarine Towed Measuring System, Navy Case No. 37,356.//U.S. Patent No. 6,599,616: Parallel Contact Patterning Using Nanochannel Glass (NCG), Navy Case No. 79,415.//U.S. Patent No. 6,607,969: Method for Making Pyroelectric, Electro-optical and Decoupling Capacitors Using Thin Film Transfer and Hydrogen Ion Splitting Techniques, Navy Case No. 79,719.//U.S. Patent No. 6,608,798: Transmit-receive Switch Apparatus and Method, Navy Case No. 82,532.//U.S. Patent No. 6,611,633: Coated Fiber Pressure Sensors Utilizing Pressure Release Coating Material, Navy Case No. 79,424.//U.S. Patent No. 6,612,399: Lightweight Low Frequency Loudspeaker for Active Noise Control, Navy Case No. 82,623.//U.S. Patent No. 6,613,385: Highly Spin-polarized Chromium Dioxide Thin Films Prepared by CVD Using Chromyl Chloride Precursor, Navy Case No. 80,069.//U.S. Patent No. 6,621,619: Hybrid Brillouin/erbium Doped Fiber Amplifier Apparatus and Method, Navy Case No. 82,480.//U.S. Patent No. 6,628,643: Method for Eliminating Synchronized Clocks in Distributed Routing Approaches That Are Dependent on Temporal Ordering of Events, Navy Case No. 80,244.//U.S. Patent No. 6,629,063: Amplitude Temporal Order Dependent Adaptive Processor, Navy Case No. 78,984.//U.S. Patent No. 6,630,560: Linear and Branched Chemoselective Siloxane Polymers and Methods for Use in Analytical and Purification Applications, Navy Case No. 80,123.//U.S. Patent No. 6,631,166: Method and Apparatus for Signal Generation and Detection Using Unstable Periodic Chaotic Orbits, Navy Case No. 79,321.//U.S. Patent No. 6,636,128: Frequency-tunable Notch Filter, Navy Case No. 80,265.//U.S. Patent No. 6,643,305: Optical Pumping Injection Cavity for Optically Pumped Devices, Navy Case No. 80,120.//U.S. Patent No. 6,643,417: All Optical Image Reject Down-converter, Navy Case No. 82,914.//U.S. Patent No. 6,645,843: Pulsed Laser Deposition of Transparent Conducting Thin Films on Flexible Substrates, Navy Case No. 80,122.//U.S. Patent No. 6,646,315: Conductive Film Layer for Hall Effect Device, Navy Case No. 83,836.//U.S. Patent No. 6,646,643: User Control of Simulated Locomotion, Navy Case No. 79,402.//U.S. Patent No. 6,649,091: Electrically Conducting Ruthenium Dioxide Aerogel Composite, Navy Case No. 83,365.//U.S. Patent No. 6,649,211: Selective Deposition of Hydrous Ruthenium Oxide Thin Films, Navy Case No. 79,838.//U.S. Patent No. 6,649,327: Method of Patterning Electrically Conductive Polymers, Navy Case No. 83,229.//U.S. Patent No. 6,650,420: Nanoscale Vibrometric Measurement Apparatus and Method, Navy Case No. 77,390.//U.S. Patent No. 6,660,780: Molecularly-imprinted Material Made by Template-directed Synthesis, Navy Case No. 84,318.//U.S. Patent No. 6,661,160: High Power Density Dual-rotor Device, Navy Case No. 83,631.//U.S. Patent No. 6,667,257: Heavy Metal Modified Silica Glass Fibers Doped with Thulium, Holmium, and Thulium-sensitized-holmium High Quantum Efficiencies, Navy Case No. 82,315.//U.S. Patent No. 6,673,246: Reusable Polysilsesquioxane Adsorbents for Pollutants, Navy Case No. 83,361.//U.S. Patent No. 6,673,953: Polymeric and Carbon Compositions with Metal Nanoparticles, Navy Case No. 82,460.//U.S. Patent No. 6,674,928: Optical Sensing Device Containing Fiber Bragg Gratings, Navy Case No. 80,209.//U.S. Patent No. 6,677,877: Comparator, Analog-to-digital Converter and Method of Analog-to-digital Conversion Using Non-linear Magneto-electronic Device, Navy Case No. 83,010.//U.S. Patent No. 6,677,882: Multi-octave High-resolution Receiver for Instantaneous Frequency Measurements, Navy Case No. 59,262.//U.S. Patent No. 6,680,142: Bio-based Microbattery and Methods for Fabrication of Same, Navy Case No. 82,409.//U.S. Patent No. 6,683,359: Hall Effect Device with Multiple Layers, Navy Case No. 83,835.//U.S. Patent No. 6,683,678: Optic Flow Sensor with Negative Iris Photoreceptor Array, Navy Case No. 84,340.//U.S. Patent No. 6,684,219: Method and Apparatus for Building and Maintaining an Object-oriented Geospatial Database, Navy Case No. 78,530.//U.S. Patent No. 6,686,494: Synthesis of S-alkyl and S-aryl Thiocarbamates, One-pot Two-step General Synthesis, Navy Case No. 84,422.//U.S. Patent No. 6,686,680: Method and Apparatus for Regulating Electron Emission in Field Emitter Devices, Navy Case No. 83,362.//U.S. Patent No. 6,687,188: Underwater Telemetry Apparatus and Method, Navy Case No. 83,167.//U.S. Patent No. 6,688,241: Microfiche Emergency Destruct System, Navy Case No. 56,919.//U.S. Patent No. 6,689,620: Method, Detector, and Apparatus for Colorimetric Detection of Chemical and Biological Agents, Navy Case No. 84,510.//U.S. Patent No. 6,690,566: Trigger Circuit for Marx Generators, Navy Case No. 79,357.//U.S. Patent No. 6,695,986: Electrocatalytic Enhancement with Catalyst-modified Carbon-silica Composite Aerogels, Navy Case No. 82,330.//U.S. Patent No. 6,696,171: Method of Ion Implantation Using Oxygen and a Metallic Surface Layer Formed Therefrom, Navy Case No. 83,419.//U.S. Patent No. 6,700,832: Method and Apparatus for Passive Acoustic Imaging Using a Horizontal Line Array, Navy Case No. 83,165.//U.S. Patent No. 6,700,858: Method and Apparatus for Parallel Readout and Correlation of Data on Optical Disks, Navy Case No. 84,342.//U.S. Patent No. 6,703,639: Nanofabrication for InAs/AlSb Heterostructures, Navy Case No. 83,495.//U.S. Patent No. 6,704,479: Method for Coupling Light Into Cladding-pumped Fiber Sources Using an Embedded Mirror, Navy Case No. 83,011.//U.S. Patent No. 6,710,343: Photon Detector, Navy Case No. 79,849.//U.S. Patent No. 6,713,272: Attachment of Biomolecules to Hydrophobic Surfaces, Navy Case No. 79,318.//U.S. Patent No. 6,713,416: Molecularly-imprinted Material Made by Template-directed Synthesis, Navy Case No. 84,470.//U.S. Patent No. 6,713,563: Electrostrictive Poly(vinylidene Fluoride-co-trifluoroethylene) Networks, Navy Case No. 83,110.//U.S. Patent No. 6,714,868: Similarity Transformation Method for Data Processing and Visualization, Navy Case No. 82,482.//U.S. Patent No. 6,717,337: Piezoelectric Acoustic Actuator, Navy Case No. 82,285.//U.S. Patent No. 6,721,358: Signal Synthesizer and Method Therefor, Navy Case No. 79,429.//U.S. Patent No. 6,724,528: Polarization-maintaining Optical Fiber Amplifier Employing Externally Applied Stress-induced Birefringence, Navy Case No. 80,237.//U.S. Patent No. 6,724,916: Composite Hough Transform for Multitarget Multisensor Tracking, Navy Case No. 79,739.//U.S. Patent No. 6,733,838: Robust Nontoxic Antifouling Elastomers, Navy Case No. 84,616.//U.S. Patent No. 6,734,043: Pressure-bonded Heat Sink Method, Navy Case No. 83,954.//U.S. Patent No. 6,737,793: Apparatus for Emitting Electrons Comprising a Subsurface Emitter Structure, Navy Case No. 84,585.//U.S. Patent No. RE34322: Preparation of Hard Magnetic Alloys of a Transition Metal and Lanthanide, Navy Case No. 73,309.

ADDRESSES: Requests for copies of the inventions cited should be directed to the Naval Research Laboratory, Code 1004, 4555 Overlook Avenue, SW., Washington, DC 20375-5320, and must include the Navy Case number.

FOR FURTHER INFORMATION CONTACT: Jane F. Kuhl, Head, Technology Transfer Office, NRL Code 1004, 4555 Overlook Avenue, SW., Washington, DC 20375-5320, telephone (202) 767-3083. Due to temporary U.S. Postal Service delays, please fax (202) 404-7920, E-Mail: kuhl@utopia.nrl.navy.mil or use courier delivery to expedite response.

(Authority: 35 U.S.C. 207, 37 CFR part 404)

Dated: July 6, 2004.
J.T. Baltimore,
Lieutenant Commander, Judge Advocate General's Corps, U.S. Navy, Alternate Federal Register Liaison Officer.

[FR Doc. 04-15717 Filed 7-9-04; 8:45 am]

BILLING CODE 3810-FF-P